COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities and deletes product(s) and service(s) previously furnished by such agencies.

DATES: Comments must be received on or before: March 2, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

3940-01-458-6317—Sling, Eye and Eye, 2 Ply, Twisted Loop, Nylon, 4′L x 2″ W, 6,200 lb.

3940-01-458-6319—Sling, Eye and Eye, 2 Ply, Twisted Loop, Nylon, 6′L x 2″ W, 6,200 lb.

3940-01-523-6560—Sling, Eye and Eye, 2 Ply, Flat Loop, Polyester, 10′L x 2″ W, 6,200 lb.

3940-01-629-6209—Sling, Eye and Eye, 2 Ply, Flat Loop, Nylon, 12′L x 2″ W, 6,200 lb.

390001404N—Sling, Eye and Eye, 2 Ply, Twisted Loop, Nylon, 10′L x 2″ W, 6,200 lb.

390001405N—Sling, Eye and Eye, 2 Ply, Twisted Loop, Nylon, 12′L x 2″ W, 6,200 lb.

Authorized Source of Supply: Dallas Lighthouse for the Blind, Inc., Dallas, TX

Contracting Activity: DEFENSE LOGISTICS AGENCY, DLA AVIATION

Mandatory for: Total Government Requirement

Distribution: A-List

Deletions

The following product(s) and service(s) are proposed for deletion from the Procurement List:

Product(s)

NSN(s)—Product Name(s):

6545-01-534-0779—Kit, First Aid, General Purpose

Authorized Source of Supply: Chautauqua County Chapter, NYSARC, Jamestown, NY

Contracting Activity: DLA TROOP SUPPORT, PHILADELPHIA, PA

NSN(s)—Product Name(s):

8445-01-375-8394—Neck tab, Crescent-shaped, Air Force, Blue

Authorized Source of Supply: Development Workshop, Inc., Idaho Falls, ID

Contracting Activity: DLA TROOP SUPPORT, PHILADELPHIA, PA

NSN(s)—Product Name(s):

7930-01-199-5595—Ecolab Soilmaster, Water Soluble, Presoak, Silverware, .7 oz

7930-01-494-0905—Ecolab Multi-Purpose Detergent, Water Soluble, .5 oz

7930-01-494-2987—Ecolab Pantastic, Detergent, Pot and Pan, .5 oz

Authorized Source of Supply: Goodwill Vision Enterprises, Rochester, NY

Contracting Activity: GSA/FSS GREATER SOUTHWEST ACQUISITI, FORT WORTH, TX

NSN(s)—Product Name(s):

8415-01-524-5884—Strap, Chin, Helmet, PASGT, Foliage Green

Authorized Source of Supply: San Antonio Lighthouse for the Blind, San Antonio, TX

Contracting Activity: W6QK ACC-APG NATICK, NATICK, MA

Contracting Activity: DLA TROOP SUPPORT, PHILADELPHIA, PA

NSN(s)—Product Name(s):

7045-01-599-5303—Privacy Filter, 16:9 Aspect Ratio Computer Monitor, 18.5 Widescreen

Authorized Source of Supply: Wiscraft, Inc., Milwaukee, WI

Contracting Activity: STRATEGIC ACQUISITION CENTER, FREDERICKSBURG, VA

Contracting Activity: GSA/FAS ADMIN SVCS ACQUISITION BR(2, NEW YORK, NY

Service(s)

Service Type: Janitorial Service

Mandatory for: Department of Veterans Affairs, Traverse City Veterans Affairs Community Based Outpatient Clinic, Traverse City, MI

Authorized Source of Supply: Grand Traverse Industries, Inc., Traverse City, MI

Contracting Activity: VETERANS AFFAIRS, DEPARTMENT OF, 506-ANN ARBOR (00506)

Service Type: Latrine Services

Mandatory for: Stryker Overflow Lot, Joint Base Lewis-McChord, WA

Authorized Source of Supply: Skookum Educational Programs, Bremerton, WA

Contracting Activity: DEPT OF THE ARMY, W4GG HQ US ARMY TACOM

Service Type: Janitorial/Custodial

Mandatory for: GSA Center: Warehouses 5 & 7, Social Security Administration, Auburn, WA

Authorized Source of Supply: Northwest Center, Seattle, WA

Contracting Activity: GENERAL SERVICES ADMINISTRATION, FPDS AGENCY COORDINATOR

Service Type: Shelf Stocking, Custodial & Warehousing

Mandatory for: MacDill Air Force Base, MacDill AFB, FL

Contracting Activity: DEFENSE COMMISSARY AGENCY (DECA), DEFENSE COMMISSARY AGENCY

Service Type: Grounds Maintenance

Mandatory for: Ash Woods: 17th Street & Independence Avenue, French Drive & Independence Avenue, Washington, DC

Authorized Source of Supply: Melwood Horticultural Training Center, Inc., Upper Marlboro, MD

Contracting Activity: OFFICE OF POLICY, MANAGEMENT, AND BUDGET, NBC ACQUISITION SERVICES DIVISION

Service Type: Custodial service

Mandatory for: US Army, 99th Readiness Division, PFC Carl Vernon Sheridan USARC, Baltimore, MD

Authorized Source of Supply: WeAchieve, Inc., Silver Spring, MD

Contracting Activity: DEPT OF THE ARMY, W6QK ACC-PICA

Service Type: Janitorial Service

Mandatory for: TSA, Kahului International Airport, Kahului, HI

Authorized Source of Supply: Ka Lima O Maui, Ltd., Wailuku, HI

Contracting Activity: TRANSPORTATION SECURITY ADMINISTRATION, OFFICE OF ACQUISITION

Service Type: Custodial/Janitorial

Mandatory for: US Army Corps of Engineers, Cochiti Lake Project Office, Pena Blanca, NM

Authorized Source of Supply: Adelante Development Center, Inc., Albuquerque, NM

Contracting Activity: DEPT OF THE ARMY, W075 ENDIST ALBUQUERQUE

Service Type: Custodial service

Mandatory for: Department of Veterans Affairs, VA Medical Center, Baltimore, MD

Authorized Source of Supply: Global Connections to Employment, Inc., Pensacola, FL

Contracting Activity: VETERANS AFFAIRS, DEPARTMENT OF, NAC

Service Type: Grounds Maintenance

Mandatory for: USDA, Annex Building,12th & C Streets SW, Washington, DC

Authorized Source of Supply: Melwood Horticultural Training Center, Inc., Upper Marlboro, MD

Contracting Activity: USDA, DEPARTMENTAL ADMINISTRATION, USDA, OCP-POD-ACQ-MGMT-BRANCH-FTC

Michael R. Jurkowski,
Director, Business Operations.

[FR Doc. 2025-02021 Filed 1-30-25; 8:45 am]

BILLING CODE 6353-01-P